DEPARTMENT OF LABOR

Occupational Safety and Health Administration

[Docket No. NRTL2-98]

NSF International; Expansion of Recognition

AGENCY: Occupational Safety and Health Administration (OSHA), Labor.

ACTION: Notice.

SUMMARY: This notice announces the Occupational Safety and Health Administration's final decision expanding the recognition of NSF International (NSF) as a Nationally Recognized Testing Laboratory under 29 CFR 1910.7.

DATES: The expansion of recognition becomes effective on December 4, 2006.

FOR FURTHER INFORMATION CONTACT: MaryAnn Garrahan, Director, Office of Technical Programs and Coordination Activities, NRTL Program, Occupational Safety and Health Administration, U.S. Department of Labor, 200 Constitution Avenue, NW., Room N-3655, Washington, DC 20210, or phone (202) 693-2110.

SUPPLEMENTARY INFORMATION:

Notice of Final Decision

The Occupational Safety and Health Administration (OSHA) hereby gives notice of the expansion of recognition of NSF International (NSF) as a Nationally Recognized Testing Laboratory (NRTL). NSF's expansion covers the use of additional test standards. OSHA's current scope of recognition for NSF may be found in the following informational Web page: http://www.osha.gov/dts/otpca/nrtl/nsf.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” ¹ by the NRTL to meet OSHA standards that require testing and certification.

¹ Properly certified means, in part, that the product is labeled or marked with the NRTL's “registered” certification mark (i.e., the mark the NRTL uses for its NRTL work) and that the product certification falls within the scope of recognition of the NRTL.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL, which details its scope of recognition. These pages can be accessed from our Web site at http://www.osha.gov/dts/otpca/nrtl/index.html.

NSF submitted an application, dated May 10, 2005, (see Exhibit 16-1) to expand its recognition to include 19 additional test standards. The NRTL then amended the original application to request two additional test standards (see Exhibit 16-2). The NRTL Program staff determined that each of these standards is an “appropriate test standard” within the meaning of 29 CFR 1910.7(c). However, one of these standards was already included in NSF's scope. Therefore, OSHA is approving 20 test standards for the expansion. In connection with this request, OSHA did not perform an on-site review of NSF's NRTL testing facilities. However, NRTL Program assessment staff reviewed information pertinent to the request and recommended that NSF's recognition be expanded to include the 20 additional test standards listed below (see Exhibit 16-3).

The preliminary notice announcing the expansion application was published in the Federal Register on May 18, 2006 (71 FR 28886). Comments were requested by June 2, 2006, but no comments were received in response to this notice. OSHA is now proceeding with this final notice to grant NSF's expansion application.

The most recent application processed by OSHA for NSF covered its renewal of recognition, and the final notice granting this renewal was published on August 30, 2005 (70 FR 51371).

You may obtain or review copies of all public documents pertaining to the NSF application by contacting the Docket Office, Occupational Safety and Health Administration, U.S. Department of Labor, 200 Constitution Avenue, NW., Room N-2625, Washington, DC, 20210. Docket No. NRTL2-98 contains all materials in the record concerning NSF's recognition.

The current address of the NSF facility already recognized by OSHA is: NSF International, 789 Dixboro Road, Ann Arbor, MI 48105.

Final Decision and Order

NRTL Program staff has examined the application, the assessor's recommendation, and other pertinent information. Based upon this examination and the assessor's recommendation, OSHA finds that NSF has met the requirements of 29 CFR 1910.7 for expansion of its recognition, subject to the limitation and conditions listed below. Pursuant to the authority in 29 CFR 1910.7, OSHA hereby expands the recognition of NSF, subject to the following limitation and conditions.

Limitation

OSHA limits the expansion of NSF's recognition to testing and certification of products for demonstration of conformance to the test standards listed below. OSHA has determined that the standards meet the requirements for an appropriate test standard, within the meaning of 29 CFR 1910.7(c).

UL 48 | Electric Signs.
UL 65 | Wired Cabinets.
UL 174 | Household Electric Storage Tank Water Heaters.
UL 250 | Household Refrigerators and Freezers.
UL 412 | Refrigeration Unit Coolers.
UL 430 | Waste Disposers.
UL 499 | Electric Heating Appliances.
UL 778 | Motor-Operated Water Pumps.
UL 858 | Household Electric Ranges.
UL 873 | Temperature-Indicating and -Regulating Equipment.
UL 979 | Water Treatment Appliances.
UL 1026 | Electric Household Cooking and Food Serving Appliances.
UL 1082 | Household Electric Coffee Makers and Brewing-Type Appliances.
UL 1083 | Household Electric Skillets and Frying-Type Appliances.
UL 1261 | Electric Water Heaters for Pools and Tubs.
UL 1598 | Luminaires.
UL 1889 | Commercial Filters for Cooking Oil.
UL 1951 | Electric Plumbing Accessories.
UL 2157 | Electric Clothes Washing Machines and Extractors.
UL 2158 | Electric Clothes Dryers.

The designations and titles of the above test standards were current at the time of the preparation of the notice of the preliminary finding.

OSHA's recognition of NSF, or any NRTL, for a particular test standard is limited to equipment or materials (i.e., products) for which OSHA standards require third-party testing and certification before use in the workplace. Consequently, if a test standard also covers any product(s) for which OSHA does not require such testing and certification, an NRTL's scope of recognition does not include that product(s).

Many UL test standards also are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Conditions

NSF must also abide by the following conditions of the recognition, in addition to those already required by 29 CFR 1910.7:

OSHA must be allowed access to NSF's facilities and records for purposes of ascertaining continuing compliance with the terms of its recognition and to investigate as OSHA deems necessary;

If NSF has reason to doubt the efficacy of any test standard it is using under this program, it must promptly inform the test standard developing organization of this fact and provide that organization with appropriate relevant information upon which its concerns are based;

NSF must not engage in or permit others to engage in any misrepresentation of the scope or conditions of its recognition. As part of this condition, NSF agrees that it will allow no representation that it is either a recognized or an accredited Nationally Recognized Testing Laboratory (NRTL) without clearly indicating the specific equipment or material to which this recognition is tied, or that its recognition is limited to certain products;

NSF must inform OSHA as soon as possible, in writing, of any change of ownership, facilities, or key personnel, and of any major changes in its operations as an NRTL, including details;

NSF will meet all the terms of its recognition and will always comply with all OSHA policies pertaining to this recognition; and

NSF will continue to meet the requirements for recognition in all areas where it has been recognized.

Edwin G. Foulke, Jr.,
Assistant Secretary.

[FR Doc. E6-20405 Filed 12-1-06; 8:45 am]

BILLING CODE 4510-26-P